DEPARTMENT OF ENERGY

Federal Energy Regulatory Commission

[Docket No. ER00-1983-000]

Florida Power Corporation; Notice of Filing

April 10, 2000.

Take notice that on March 28, 2000, Florida Power Corporation (Florida Power) filed amendments to its all Requirements Service Agreement dated September 4, 1990 for all requirements service to the City of Mount Dora, Florida (Mount Dora). That agreement is on file with the Commission as FPC FERC Rate Schedule No. 127. Florida Power states that the filing qualifies as an abbreviated rate filing pursuant to Section 35.13(a)(2)(iii) of the Commission's regulations because the amendments to the agreement are rate schedule changes other than rate increases.

Florida Power requests that the filing become effective on April 1, 2000.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before April 18, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-9318 Filed 4-13-00; 8:45 am]

BILLING CODE 6717-01-M